DEPARTMENT OF ENERGY

Federal Energy Regulatory Commission

Combined Notice of Filings No. 2

Take notice that the Commission has received the following Natural Gas Pipeline Rate and Refund Report filings:

Docket Numbers: RP11-2006-001.

Applicants: Equitrans, L.P.

Description: Equitrans, L.P. submits tariff filing per 154.203: Removal of Non-Conforming Agreement Compliance Filing to be effective 7/9/2011.

Filed Date: 06/09/2011.

Accession Number: 20110609-5105.

Comment Date: 5 p.m. Eastern Time on Friday, June 24, 2011.

Docket Numbers: RP10-713-002.

Applicants: Enbridge Offshore Pipelines (UTOS) LLC.

Description: Enbridge Offshore Pipelines (UTOS) LLC submits tariff filing per 154.203: Resubmittal in Compliance with Order to be effective 6/5/2010.

Filed Date: 06/16/2011.

Accession Number: 20110616-5071.

Comment Date: 5 p.m. Eastern Time on Tuesday, June 28, 2011.

Docket Numbers: RP11-2177-001.

Applicants: Texas Gas Transmission, LLC.

Description: Texas Gas Transmission, LLC submits tariff filing per 154.205(b): RP11-2177-000 Amendment Filing to be effective 7/7/2011.

Filed Date: 06/16/2011.

Accession Number: 20110616-5057.

Comment Date: 5 p.m. Eastern Time on Tuesday, June 28, 2011.

Docket Numbers: CP05-357-010.

Applicants: Cheniere Creole Trail Pipeline, L.P.

Description: Cheniere Creole Trail Pipeline, L.P. submits Cost and Revenue Study.

Filed Date: 06/17/2011.

Accession Number: 20110617-5178.

Comment Date: 5 p.m. Eastern Time on Tuesday, June 28, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: June 21, 2011.
Nathaniel J. Davis, Sr.,
Deputy Secretary.

[FR Doc. 2011-17136 Filed 7-7-11; 8:45 am]

BILLING CODE 6717-01-P